COMMISSION ON CIVIL RIGHTS

Agenda and Notice of Public Meeting of all State Advisory Committee Chairpersons in the Western Region

Notice is hereby given, pursuant to the provisions of the rules and regulations of the U.S. Commission on Civil Rights, that a meeting of the Chairpersons of each advisory committee in the Western Region (Alaska, Arizona, California, Hawaii, Idaho, Nevada, Oregon, Texas and Washington) to the Commission will convene at 1 p.m. (Pacific standard time) and adjourn at 2 p.m., on January 23, 2004. The purpose of the conference call is to discuss state advisory committee activities and priorities with the nine chairpersons of the Western Region.

The conference call is available to the public through the following call-in number 1-800-659-8294, access code number 21288915. Any interested member of the public may call this number and listen to the meeting. Callers can expect to incur charges for calls not initiated using the provided call-in number or over wireless lines and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Thomas Pilla of the Western Regional Office, (213) 894-3437, by 3 p.m. on Thursday, January 22, 2004.

The meeting will be conducted pursuant to the provisions of the rules and regulations of the Commission.

Dated at Washington, DC, January 12, 2004.
Ivy L. Davis,
Chief, Regional Programs Coordination Unit.

[FR Doc. 04-1108 Filed 1-16-04; 8:45 am]

BILLING CODE 6335-01-P